DEPARTMENT OF THE INTERIOR

National Park Service

[NPS-NER-MAMC-31883; PPNCNACEN0, PPMPSAS1Z.Y00000]

Request for Nominations for the Mary McLeod Bethune Council House National Historic Site Advisory Commission

AGENCY: National Park Service, Interior.

ACTION: Notice.

SUMMARY: The National Park Service (NPS), U.S. Department of the Interior, is requesting nominations for qualified persons to serve as members of the Mary McLeod Bethune Council House National Historic Site Advisory Commission (Commission).

DATES: Written nominations must be postmarked by July 30, 2021.

ADDRESSES: Nominations should be sent to Tonya Thompson, Chief of Staff, National Capital Parks-East, National Park Service, 1900 Anacostia Drive SE, Washington, DC 20020, telephone (202) 407-5267, or email latonya_thompson@nps.gov.

FOR FURTHER INFORMATION CONTACT: Tonya Thompson, Chief of Staff, National Capital Parks-East, National Park Service, 1900 Anacostia Drive SE, Washington, DC 20020, telephone (202) 407-5267, or email latonya_thompson@nps.gov.

SUPPLEMENTARY INFORMATION: The Commission was authorized on December 11, 1991, by Public Law 102-211 (54 U.S.C. 320101 formerly 16 U.S.C. 461 note), for the purpose of advising the Secretary of the Interior (Secretary) on the implementation of a general management plan for the Mary McLeod Bethune Council House National Historic Site. The Commission meets at least semiannually to discuss matters relating to the management and development of the historic site.

The Commission is composed of 15 members appointed by the Secretary for 4-year terms, as follows: (1) Three members selected from recommendations submitted by the National Council of Negro Women, Inc.; (2) two members selected from recommendations submitted by other national organizations in which Mary McLeod Bethune played a leadership role; (3) two members with professional expertise in the history of African American women; (4) three members with professional expertise in archival management; (5) three members representing the general public; and (6) two members with professional expertise in historic preservation. The NPS is currently seeking members to represent all categories.

Nominations should be typed and include a resume providing an adequate description of the nominee's qualifications, including information that would enable the Department of the Interior to make an informed decision regarding meeting the membership requirements of the Commission and permit the Department to contact a potential member. All documentation, including letters of recommendation, must be compiled and submitted in one complete package. All those interested in membership, including current members whose terms are expiring, must follow the same process. Members can not appoint deputies or alternates.

Members of the Commission serve without compensation. However, while away from their homes or regular places of business in the performance of services for the Commission as approved by the NPS, members will be allowed travel expenses, including per diem in lieu of subsistence, in the same manner as persons employed intermittently in Government service are allowed such expenses under section 5703 of title 5 of the United States Code.

Authority: 5 U.S.C. Appendix 2.

Alma Ripps,
Chief, Office of Policy.

[FR Doc. 2021-13920 Filed 6-29-21; 8:45 am]

BILLING CODE 4312-52-P